DEPARTMENT OF TRANSPORTATION

Federal Aviation Administration

[Docket No. FAA-2024-2103]

Agency Information Collection Activities: Requests for Comments; Clearance of Renewed Approval of Information Collection: Aircraft Registration

AGENCY: Federal Aviation Administration (FAA), DOT.

ACTION: Notice and request for comments.

SUMMARY: In accordance with the Paperwork Reduction Act of 1995, FAA invites the public comments about our intention to request the approval of the Office of Management and Budget (OMB) to renew a previously approved information collection, add two new forms and move one form to a different collection. The Federal Register Notice with a 60-day comment period soliciting comments on the following collection of information was published on August 30, 2024. The collection involves gathering minimal required information to register an aircraft. The information to be collected will be used to register aircraft.

DATES: Written comments should be submitted by January 29, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Shantel Young by email at: shantel.young@faa.gov; phone: 405-954-7077.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0042.

Title: Aircraft Registration.

Form Numbers: AC Forms 8050-1, 8050-1B, 8050-2, 8050-4, 8050-88, 8050-88A, 8050-88UA, 8050-117, and 8050-138.

Type of Review: Revise and renew an information collection.

Background: The Federal Register Notice with a 60-day comment period soliciting comments on the following collection of information was published on August 30, 2024 (89 FR 70681). Public Law 103-272 states that all aircraft must be registered before they may be flown. It sets forth registration eligibility requirements and provides for application for registration as well as suspension and/or revocation of registration. The information collected is required by any party wishing to register an aircraft. The FAA also collects information to process requests from private aircraft owners or operators to withhold from board dissemination or display by the FAA the personally identifiable information of such individuals, including on the FAA's publicly available website, in accordance with 49 U.S.C. 44114(b).

The Aircraft Registry has determined there is a need to create two new forms for this collection as follows: AC Form 8050-88UA, Affidavit of Ownership for Unmanned Aircraft (UA) and AC Form 8050-138, Declaration of International Operation.

The AC Form 8050-88UA was created to make it easier for registration applicants to supply the FAA Aircraft Registry with the minimal information needed to register a UA. Most UA owners don't have the required evidence of ownership to register. The affidavit will be used in lieu of a recordable bill of sale for any new registrations. The registrant may still submit any other proof of ownership with the affidavit or declare that evidence of ownership is not available. The new form will collect the following information about the UA: registration number, name of manufacturer/builder, model, serial number, class, engine type, number of engines, number of seats, max takeoff weight and how/where the UA was purchased.

The AC Form 8050-138 was created to allow registrants to request priority handling of their registration documents due to an impending international flight. The Aircraft Registry is required to process all incoming documents in the order of their receipt. An aircraft last previously registered in the United States may be operated within the United States under temporary authority (see 14 CFR 47.31), so long as a second copy of the Aircraft Registration Application is carried in the aircraft. The temporary authority is valid until the date the applicant receives the Certificate of Aircraft Registration or until the date the FAA denies the application, or 12 months have passed since the receipt of the first application following transfer of ownership by the last registered owner. There are instances where applicants need to fly aircraft outside the continental United States. Many of those applicants are major Air Carriers and small businesses. When an applicant files a Declaration of International Operation, AC Form 8050-138, the applicant's registration documents will be worked on a priority basis, alleviating any undue hardship. The form will collect the aircraft description and pertinent information about the scheduled international flight: date of flight, flight number, departing location and destination location.

The Aircraft Security Agreement, AC Form 8050-98, has been removed from this collection and moved to OMB 2120-0043, Recording of Aircraft Conveyances and Security Documents. This was not published in the 60-day notice.

Respondents: Approximately 177,201 respondents.

Frequency: Information is collected on occasion.

Estimated Average Burden per Response: 15 to 30 minutes.

Estimated Total Annual Burden: 87,525 hours.

Issued in Oklahoma City, OK on December 22, 2025.
Shantel Young,
Management and Program Analyst, Civil Aviation Registry, Aircraft Registration Branch, AFB-710.

[FR Doc. 2025-23925 Filed 12-29-25; 8:45 am]

BILLING CODE 4910-13-P